DEPARTMENT OF TRANSPORTATION

National Highway Traffic Safety Administration

Reports, Forms, and Recordkeeping Requirements; Agency Information Collection Activity Under OMB Review

AGENCY: National Highway Traffic Safety Administration (NHTSA), DOT.

ACTION: Notice of the OMB review of information collection and solicitation of public comment.

SUMMARY: In compliance with the Paperwork Reduction Act of 1995 (44 U.S.C. chapter 35), this notice announces that the Information Collection Request (ICR) abstracted below will be submitted to the Office of Management and Budget (OMB) for review. The ICR describes the nature of the information collection and its expected burden. A Federal Register Notice with a 60-day comment period was published on June 13, 2012 (Vol. 77, No. 144/FR pp.35473-35475).

DATES: Submit comments to the Office of Management and Budget (OMB) on or before July 18, 2013.

FOR FURTHER INFORMATION CONTACT: Mary Hinch at the National Highway Traffic Safety Administration, Office of Behavioral Safety Research (NTI-132), W44-466, Department of Transportation, 1200 New Jersey Avenue SE., Washington, DC 20590. Mary Hinch's phone number is 202-366-5595 and her email address is mary.hinch@dot.gov.

SUPPLEMENTARY INFORMATION: OMB Control Number: 2127-0665.

Title: NHTSA Distracted Driving Survey Project.

Form No.: NHTSA Form 1084.

Type of Review: Revision of previously approved collection of information.

Respondents: Licensed drivers 18 years of age and older residing in the communities participating in the distracted driving demonstration program. Participation by all respondents would be voluntary and anonymous. The surveys would not collect any personal information that would allow anyone to identify respondents. A Spanish-language translation and bilingual interviewers would be used to minimize language barriers to participation.

Estimated Number of Respondents: A maximum of 20,000 licensed drivers.

Estimated Time Per Response: The interviews are estimated to run 5 minutes in length.

Total Estimated Annual Burden Hours: 1,667 hours.

Frequency of Collection: Each respondent will only participate in the survey once.

Abstract: The National Highway Traffic Safety Administration (NHTSA) proposes to conduct awareness surveys to evaluate a traffic safety program designed to reduce texting and driving. The program will be conducted at the community level in two States. Information on attitudes, awareness, knowledge, and self-reported behavior would be collected.

The findings from the proposed information collection would build on existing knowledge and contribute to our safety goal of reducing distracted driving. In 2010 and 2011, NHTSA conducted a high visibility enforcement distracted driving program in Hartford, Connecticut and Syracuse, New York focusing on hand-held phone use. The current project would expand the distracted driving program to focus on texting behavior. This data collection would provide great insight into the application of the high visibility enforcement model to reduce texting amongst drivers.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: 202-395-5806.

Comments Are Invited On: Whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. Section 3506(c)(2)(A).

Jeff Michael,
Associate Administrator, Research and Program Development.

[FR Doc. 2013-14445 Filed 6-17-13; 8:45 am]

BILLING CODE 4910-59-P